DEPARTMENT OF JUSTICE

Antitrust Division

Notice Pursuant to the National Cooperative Research and Production Act of 1993—Accredited Standards Committee X9, Inc.

Notice is hereby given that, on August 23, 2004, pursuant to Section 6(a) of the National Cooperative Research and Production Act of 1993, 15 U.S.C. 4301 et seq. (“the Act”), the Accredited Standards Committee X9, Inc. (“ASC X9”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Accredited Standards Committee X9, Inc. (“ASC X9”), Annapolis, MD. The nature and scope of ASC X9's standards development activities are to develop and promote standards for the financial services industry in order to facilitate services and products. ASC X9's objectives are to support (maintain, enhance and promote use of) existing standards; facilitate development of new, open standards based upon consensus; incorporate nonproprietary items developed by other organizations where appropriate; provide a common source for all standards affecting the financial services industry; focus on concurrent and future standards needs of the financial services industry standards; and participate in and promote the development of international standards.

Additional information concerning ASC X9 may be obtained from Cynthia L. Fuller, Executive Director, Accredited Standards Committee X9, Inc., P.O. box 4035, Annapolis, MD 21403, Tel. (410) 267-7707.

Dorothy B. Fountain,
Deputy Director of Operations Antitrust Division.

[FR Doc. 04-22294 Filed 10-4-04; 8:45 am]

BILLING CODE 4140-01-M